DEPARTMENT OF THE INTERIOR

Notice of an Open Meeting of the Advisory Committee on Water Information

AGENCY: United States Geological Survey.

ACTION: Notice of an open meeting of the Advisory Committee on Water Information (ACWI).

SUMMARY: Notice is hereby given of a meeting of the ACWI. This meeting is to discuss broad policy-related topics relating to national water initiatives, and the development and dissemination of water information, through reports from ACWI subgroups. The agenda will include an update on the Department of the Interior WaterSMART initiative; an update by the Subcommittee on Ground Water regarding their National Framework for Ground Water Monitoring; a discussion of the SECURE Water Act and its implications for ACWI and its subcommittees; a discussion of a new reference network for surface-water sites; a briefing on the Reservoir Sedimentation Database; an update on preparations for the 8th National Monitoring Conference, which will be held in 2012 in Portland, Oregon; an update on the National Monitoring Network for U.S. Coastal Waters and their Tributaries, and other activities of the National Water Quality Monitoring Council; and a briefing on WaterFALL™, a Watershed Flow and Allocation Model developed by the Triangle Research Institute.

The ACWI was established under the authority of the Office of Management and Budget Memorandum M-92-01 and the Federal Advisory Committee Act. The purpose of the ACWI is to provide a forum for water information users and professionals to advise the Federal Government on activities and plans that may improve the effectiveness of meeting the Nation's water information needs. Member organizations help to foster communications between the Federal and non-Federal sectors on sharing water information.

Membership, limited to 35 organizations, represents a wide range of water resources interests and functions. Representation on the ACWI includes all levels of government, academia, private industry, and professional and technical societies. For more information on the ACWI, its membership, subgroups, meetings and activities, please see the Web site at: http://ACWI.gov.

DATES: The formal meeting will convene at 9 a.m. on July 12, 2011, and will adjourn at 5 p.m. on July 13, 2011.

ADDRESSES: The meeting will be held in the USGS auditorium, located at 12201 Sunrise Valley Drive, Reston, Virginia 20192. The meeting will also be accessible by teleconference and WebEx. When it is time to attend the meeting, visit this link: https://usgs.webex.com/usgs/j.php?ED=157656982&UID=1226445297&RT=MiMxMQ%3D%3D. Teleconference: Dial-In Number—1-877-985-7015. Participant Access Code—9699971# .

FOR FURTHER INFORMATION CONTACT: Ms. Wendy E. Norton, ACWI Executive Secretary and Chief, Water Information Coordination Program, U.S. Geological Survey, 12201 Sunrise Valley Drive, MS 417, Reston, VA 20192. Telephone: 703-648-6810; Fax: 703-648-5644; e-mail: wenorton@usgs.gov.

SUPPLEMENTARY INFORMATION: This meeting is open to the public. Up to a half hour will be set aside for public comment. Persons wishing to make a brief presentation (up to 5 minutes) are asked to provide a written request with a description of the general subject to Ms. Norton at the above address no later than July 7, 2010. It is requested that 65 copies of a written statement be submitted at the time of the meeting for distribution to members of the ACWI and placement in the official file. Any member of the public may submit written information and (or) comments to Ms. Norton for distribution at the ACWI meeting.

Dated: June 24, 2011.
Wendy Norton,
Chief, Water Information Coordination Program.

[FR Doc. 2011-16415 Filed 6-29-11; 8:45 am]

BILLING CODE 4310-AM-P